DEPARTMENT OF DEFENSE

Office of the Secretary

Board of Visitors, National Defense University; Notice of Federal Advisory Committee Meeting

AGENCY: Office of the Chairman Joint Chiefs of Staff, Department of Defense.

ACTION: Notice of Federal Advisory Committee meeting.

SUMMARY: The Department of Defense (DoD) is publishing this notice to announce that the following Federal Advisory Committee meeting of the Board of Visitors, National Defense University will take place.

DATES: Tuesday, May 21, 2019 from 12:30 p.m. to 4:15 p.m. and Wednesday, May 22, 2019 from 11 a.m. to 11:45 a.m.

ADDRESSES: Normandy Hall, Joint Forces Staff College, 7800 Hampton Blvd., Naval Support Activity Hampton Roads, Norfolk, VA 23511-1702.

FOR FURTHER INFORMATION CONTACT: Dr. Brian R. Shaw, (202) 685-4685 (Voice), (202) 685-3920 (Facsimile), brian.r.shaw8.civ@mail.mil; brian.r.shaw.civ@ndu.edu; joycelyn.a.stevens.civ@mail.mil; stevensj7@ndu.edu (Email). Mailing address is National Defense University, Fort McNair Washington, DC 20319-5066. Website: http://www.ndu.edu/About/Board-of-Visitors/. The most up-to-date changes to the meeting agenda can be found on the website.

SUPPLEMENTARY INFORMATION: Due to circumstances beyond the control of the Department of Defense (DoD) and the Designated Federal Officer, the Board of Visitors, National Defense University was unable to provide public notification required by 41 CFR 102-3.150(a) concerning the meeting on May 21, 2019 through May 22, 2019 of the Board of Visitors, National Defense University. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Pursuant to 5 U.S.C. 552b and 41 CFR 102-3.140 through 102-3.165, and the availability of space, this meeting is open to the public.

Purpose of the Meeting: The purpose of the meeting will include discussion on accreditation compliance, organizational management, strategic planning, resource management, and other matters of interest to the National Defense University.

Agenda: Tuesday, May 21, 2019 from 12:30 p.m. to 4:15 p.m.: Welcome and Administrative Notes; State of the University Address; Review of Past Meeting Minutes and the Chairman of the Joint Chiefs of Staff's Response to the Letter from the Board of Visitors; Updates on Information and Educational Technology, NDU Facilities and the NDU Budget and Project 2024. Wednesday, May 22, 2019 from 11 a.m. to 11:45 a.m.: Public Comment; Board of Visitors Member Feedback and Wrap-up and Closing Remarks.

Meeting Accessibility: Limited space is available for observers and will be allocated on a first come, first served basis. Meeting location is handicap accessible. Visitors must enter Naval Support Activity Hampton Roads via Gate A from Terminal Blvd. & Meredith St.

Base Access Requirements: All visitors without U.S. Department of Defense Common Access Cards (CACs) must be vetted in advance in order to gain entry onto the base. Visitors must complete and sign, the Department of the Navy Local Population ID Card/Base Access Pass Registration (Form SECNAV 5512). To download the form, please visit https://forms.documentservices.dla.mil/order/.

Once on the site, to locate SECNAV 5512/1, go to the Search Criteria (top of page). Click the down arrow to choose “Form Number” and type in “SECNAV 5512”. When the list comes up, either open the form by clicking on the disc icon to the left of the form and save to your desktop; or right-click on the disc icon, then save the link to save the form to your desktop. Please fax the completed form to CDR Brandy McNabb, Operations Officer at (757) 443-6033. Please note vetting may take 5-14 working days.

To find out if you have been cleared for base access go to CNIC website at https://www.cnic.navy.mil/regions/cnrma.html. Go to popular links bottom right corner, click on DBIDS/Day Visitor list. Visitors who successfully complete vetting and identity proofing will be issued a DBIDS credential or paper access pass.

The pass can be picked up the day prior or morning of the meeting at the Pass & ID Office at Norfolk Naval Station, 9040 Hampton Blvd., CD9, Norfolk, VA 23511. Please bring your ID. Additional supporting documents (including directions to Normandy Hall) are available at http://www.ndu.edu/About/Board-of-Visitors/. For questions or additional information, you may contact CDR McNabb at (757) 443-6269.

Vehicle Search: Non-DoD/nonfederally affiliated visitors' vehicles are subject to search.

Building Access to Normandy Hall: Directions to Normandy Hall will be provided at Gate A, Naval Support Activity Hampton Roads. Visitors should report to the Front Security Desk in the lobby and from there, they will be directed to the meeting room.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: May 8, 2019.
Aaron T. Siegel,
Alternate OSD Federal Register Liaison Officer, Department of Defense.

[FR Doc. 2019-09780 Filed 5-10-19; 8:45 am]

BILLING CODE 5001-06-P